INTERNATIONAL TRADE COMMISSION

[Investigation No. 337-TA-936]

Certain Footwear Products; Notice of a Commission Determination Not to Review Granting New Balance Athletic Shoe, Inc.'s Motion To Intervene as a Respondent

AGENCY: U.S. International Trade Commission.

ACTION: Notice.

SUMMARY: Notice is hereby given that the U.S. International Trade Commission has determined not to review an initial determination (“ID”) (Order No. 36) of the presiding administrative law judge (“ALJ”) granting New Balance Athletic Shoe, Inc.'s (“New Balance”) motion to intervene as a respondent in the investigation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on November 17, 2014, based on a complaint filed on behalf of Converse Inc. (“Converse”) of North Andover, Massachusetts. 79 FR 68482. The complaint alleges violations of section 337 of the Tariff Act of 1930, as amended, 19 U.S.C. 1337, by reason of infringement of certain U.S. Trademark Registration Nos.: 4,398,753; 3,258,103; and 1,588,960. The complaint further alleges violations of section 337 based upon unfair competition/false designation of origin, common law trademark infringement and unfair competition, and trademark dilution, the threat or effect of which is to destroy or substantially injure an industry in the United States. The Commission's notice of investigation named several respondents.

On January 12, 2015, non-party New Balance of Boston, Massachusetts moved to intervene as a respondent in the investigation. The Commission investigative attorney filed a response in support of the motion, and Converse filed a response indicating that it did not oppose the motion and affirmed that intervention would not delay or prejudice adjudication of the original parties' rights. Other parties did not oppose the motion.

On January 27, 2015, the ALJ issued the subject ID (Order No. 36) granting New Balance's motion to intervene as a respondent in the investigation. No party petitioned for review of the ID.

The Commission has determined not to review the ID.

The authority for the Commission's determination is contained in section 337 of the Tariff Act of 1930, as amended, 19 U.S.C. 1337, and in Part 210 of the Commission's Rules of Practice and Procedure, 19 CFR part 210.

Issued: February 18, 2015.
By order of the Commission.
William R. Bishop,
Supervisory Hearings and Information Officer.

[FR Doc. 2015-03693 Filed 2-23-15; 8:45 am]

BILLING CODE 7020-02-P